DEPARTMENT OF HEALTH AND HUMAN SERVICES

Food and Drug Administration

Request for Nominations for Voting Members on Public Advisory Committees; Veterinary Medicine Advisory Committee; Extension of Nomination Period

AGENCY: Food and Drug Administration, HHS.

ACTION: Notice; extension of nomination period.

SUMMARY: The Food and Drug Administration (FDA) is extending the nomination period for voting members to serve on the Veterinary Medicine Advisory Committee. The current vacancies include the specialty areas of Pharmacology, Minor Species/Minor Use Veterinary Medicine, Pathology, and chairperson. Nominations for the specialty areas of Animal Science, Veterinary Toxicology, and Veterinary Microbiology are also solicited. This request for nominations was announced in the Federal Register of May 13, 2002 (67 FR 32055) and June 17, 2002 (67 FR 41250). FDA is extending the nominations period to allow additional time for the submission of nominations.

DATES: Nominations should be received by August 30, 2002.

ADDRESSES: All nominations for representatives should be sent to Aleta Sindelar (see FOR FURTHER INFORMATION CONTACT).

FOR FURTHER INFORMATION CONTACT: Aleta Sindelar, Center for Veterinary Medicine, Food and Drug Administration, 7519 Standish Pl., Rockville, MD 20855, 301-827-4515, e-mail: asindela@cvm.fda.gov.

Dated: July 25, 2002.
Linda Arey Skladany,
Senior Associate Commissioner for External Relations.

[FR Doc. 02-19376 Filed 7-31-02; 8:45 am]

BILLING CODE 4160-01-S